DEPARTMENT OF ENERGY

Federal Energy Regulatory Commission

[Docket No. RP00-15-002]

CNG Transmission Corporation; Notice of Proposed Changes In FERC Gas Tariff

February 29, 2000.

Take notice that on February 23, 2000, CNG Transmission Corporation (CNG) tendered for filing as part of its FERC Gas Tariff, Second Revised Volume No. 1, the following tariff sheet, with an effective date of February 1, 2000:

Substitute Second Revised Sheet No. 350A

CNG states that the purpose of this filing is to respond to the concerns of certain parties by clarifying the transportation cost tracking mechanism of CNG's tariff consistent with the “Stipulation and Agreement Amending Rate Case Settlement” filed October 5, 1999, approved by the Commission in this proceeding on December 21, 1999, 89 FERC ¶ 61,304.

CNG states that copies of its letter of transmittal and enclosures are being served upon parties to the proceeding.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not served to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-5264 Filed 3-3-00; 8:45 am]

BILLING CODE 6717-01-M